DEPARTMENT OF TRANSPORTATION

Federal Aviation Administration

14 CFR Part 71

[Docket No. FAA-2017-0666; Airspace Docket No. 17-ANM-15]

Amendment of Class D and Class E Airspace; Pueblo, CO

AGENCY: Federal Aviation Administration (FAA), DOT.

ACTION: Final rule, correction.

SUMMARY: This action corrects a final rule published in the Federal Register of November 27, 2017, that amends Class D and Class E airspace at Pueblo Memorial Airport, Pueblo, CO. The airspace description for the airport in Class E airspace designated as an extension to a Class D surface area contained a wording error.

DATES: Effective date 0901 UTC, February 1, 2018. The Director of the Federal Register approves this incorporation by reference action under title 1, Code of Federal Regulations, part 51, subject to the annual revision of FAA Order 7400.11 and publication of conforming amendments.

FOR FURTHER INFORMATION CONTACT: Tom Clark, Federal Aviation Administration, Operations Support Group, Western Service Center, 1601 Lind Avenue SW, Renton, WA 98057; telephone (425) 203-4511.

SUPPLEMENTARY INFORMATION:

History

The FAA published a final rule in the Federal Register (82 FR 55943, November 27, 2017) Docket No. FAA-2017-0666 amending Class D and Class E airspace at Pueblo Memorial Airport, Pueblo, CO. Subsequent to publication, the FAA identified a clerical error in the legal description of the Class E airspace designated as an extension to a Class D or Class E surface area at Pueblo Memorial Airport. This correction changes the words “. . . from 700 feet above the surface . . .” to read “. . . from the surface. . . .”

Correction to Final Rule

Accordingly, pursuant to the authority delegated to me, in the Federal Register of November 27, 2017 (82 FR 55943) FR Doc. 2017-25310, Amendment of Class D and Class E Airspace; Pueblo, CO, is corrected as follows:

§ 71.1 [Amended]

ANM CO E4 Pueblo, CO [Corrected]

On page 55945, column 1, lines 14 and 15, the words “That airspace extending upward from 700 feet above the surface” are corrected to read “That airspace extending upward from the surface”.

Issued in Seattle, Washington, on January 2, 2018.
Shawn M. Kozica,
Group Manager, Operations Support Group, Western Service Center.

[FR Doc. 2018-00201 Filed 1-9-18; 8:45 am]

BILLING CODE 4910-13-P